ENVIRONMENTAL PROTECTION AGENCY

[FRL-9915-43-ORD]

Office of Research and Development; Ambient Air Monitoring Reference and Equivalent Methods: Designation of One New Reference Method for PM10

AGENCY: Environmental Protection Agency.

ACTION: Notice of designation of a new reference method for monitoring ambient air quality.

SUMMARY: Notice is hereby given that the Environmental Protection Agency (EPA) has designated, in accordance with 40 CFR Part 53, a new reference method for measuring concentrations of PM10 in the ambient air.

FOR FURTHER INFORMATION CONTACT: Robert Vanderpool, Human Exposure and Atmospheric Sciences Division (MD-D205-03), National Exposure Research Laboratory, U.S. EPA, Research Triangle Park, North Carolina 27711. Email: Vanderpool.Robert@epa.gov.

SUPPLEMENTARY INFORMATION: In accordance with regulations at 40 CFR Part 53, the EPA evaluates various methods for monitoring the concentrations of those ambient air pollutants for which EPA has established National Ambient Air Quality Standards (NAAQSs), as set forth in 40 CFR Part 50. Monitoring methods that are determined to meet specific requirements for adequacy are designated by the EPA as either reference methods or equivalent methods (as applicable), thereby permitting their use under 40 CFR Part 58 by States and other agencies for determining compliance with the NAAQSs.

The EPA hereby announces the designation of a new reference method for measuring pollutant concentrations of particulate matter as PM10 in the ambient air. This designation is made under the provisions of 40 CFR Part 53, as amended on August 31, 2011(76 FR 54326-54341).

The new reference method for PM10 is a manual monitoring method based on a particular, commercially available PM10 sampler, as specified in appendix J 40 CFR part 50. The newly designated reference method is identified as follows:

RFPS-0714-216, “Tisch Environmental Model TE-Wilbur10 PM10 Low-Volume Air Particulate Sampler,” configured as a PM10 reference method, with firmware version 1.70 or later and a TE-PM10-D PM10 size-selective inlet, as specified in 40 CFR 50 Appendix L Figs. L-2 thru L-19, and operated for 24 sample periods at a flow rate of 16.67 L/min, using 47 mm PTFE membrane filter media, and in accordance with the Tisch Environmental Model TE-Wilbur10 PM10 Low-Volume Air Particulate Sampler instruction manual and with the requirements and sample collection filters as specified in 40 CFR Part 50, Appendix J.

The application for reference method determination for the PM10 method was received by the Office of Research and Development on May 28, 2014. This monitor is commercially available from the applicant, Tisch Environmental, Inc., 145 S. Miami Avenue, Village of Cleves, OH 45002.

Test monitors representative of this method have been tested in accordance with the applicable test procedures specified in 40 CFR Part 53, as amended on August 31, 2011. After reviewing the results of those tests and other information submitted in the application, EPA has determined, in accordance with Part 53, that this method should be designated as a reference method. The information in the application will be kept on file, either at EPA's National Exposure Research Laboratory, Research Triangle Park, North Carolina 27711 or in an approved archive storage facility, and will be available for inspection (with advance notice) to the extent consistent with 40 CFR Part 2 (EPA's regulations implementing the Freedom of Information Act).

As a designated reference method, this method is acceptable for use by states and other air monitoring agencies under the requirements of 40 CFR Part 58, Ambient Air Quality Surveillance. For such purposes, the method must be used in strict accordance with the operation or instruction manual associated with the method and subject to any specifications and limitations (e.g., configuration or operational settings) specified in the applicable designated method description (see the identification of the method above).

Use of the method also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008. Provisions concerning modification of such methods by users are specified under Section 2.8 (Modifications of Methods by Users) of Appendix C to 40 CFR Part 58.

Consistent or repeated noncompliance should be reported to: Director, Human Exposure and Atmospheric Sciences Division (MD-E205-01), National Exposure Research Laboratory, U.S. Environmental Protection Agency, Research Triangle Park, North Carolina 27711.

Designation of this new reference method is intended to assist the States in establishing and operating their air quality surveillance systems under 40 CFR Part 58. Questions concerning the commercial availability or technical aspects of the method should be directed to the applicant.

Dated: August 12, 2014.
Jennifer Orme-Zavaleta,
Director, National Exposure Research Laboratory.

[FR Doc. 2014-19777 Filed 8-19-14; 8:45 am]

BILLING CODE 6560-50-P